DEPARTMENT OF AGRICULTURE

Animal and Plant Health Inspection Service

[Docket No. APHIS-2017-0071]

Availability of an Environmental Assessment for the Biological Control of Yellow Toadflax

AGENCY: Animal and Plant Health Inspection Service, USDA.

ACTION: Notice of availability and request for comments; extension of comment period.

SUMMARY: We are extending the comment period for our draft environmental assessment relative to the control of yellow toadflax (Linaria vulgaris), which considers the effects of, and alternatives to, the field release of a stem gall weevil, Rhinusa pilosa, into the continental United States for use as a biological control agent to reduce the severity of yellow toadflax infestations. This action will allow interested persons additional time to prepare and submit comments.

DATES: The comment period for the notice of availability and request for comments published on October 2, 2017 (82 FR 45796-45797), is extended. We will consider all comments that we receive on or before November 16, 2017.

ADDRESSES: You may submit comments by either of the following methods:

• Federal eRulemaking Portal: Go to http://www.regulations.gov/#!docketDetail;D=APHIS-2017-0071.

• Postal Mail/Commercial Delivery: Send your comment to Docket No. APHIS-2017-0071, Regulatory Analysis and Development, PPD, APHIS, Station 3A-03.8, 4700 River Road, Unit 118, Riverdale, MD 20737-1238.

Supporting documents and any comments we receive on this docket may be viewed at http://www.regulations.gov/#!docketDetail;D=APHIS-2017-0071 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: On October 2, 2017, we published in the Federal Register (82 FR 45796-45797, Docket No. APHIS-2017-0071) a notice of availability and request for comments ¹ on our draft environmental assessment relative to the control of yellow toadflax (Linaria vulgaris), which considers the effects of, and alternatives to, the field release of a stem gall weevil, Rhinusa pilosa, into the continental United States for use as a biological control agent to reduce the severity of yellow toadflax infestations.

¹ To view the notice and environmental assessment, go to http://www.regulations.gov/#!docketDetail;D=APHIS-2017-0071.

Comments on the draft environmental assessment were required to be received on or before November 1, 2017. We are extending the comment period on Docket No. APHIS-2017-0071 for an additional 15 days. This action will allow interested persons additional time to prepare and submit comments.

Done in Washington, DC, this 30th day of October 2017.
Michael C. Gregoire,
Acting Administrator, Animal and Plant Health Inspection Service.

[FR Doc. 2017-23895 Filed 11-1-17; 8:45 am]

BILLING CODE 3410-34-P